DEPARTMENT OF ENERGY

Federal Energy Regulatory Commission

[Project No. 459-265]

AmerenUE; Notice of Application for Amendment of License and Soliciting Comments, Motions To Intervene, and Protests

April 27, 2009.

a. Type of Application: Non-project use of project lands and waters.

b. Project Number: 459-265.

c. Date Filed: April 3, 2009.

d. Applicant: AmerenUE.

e. Name of Project: Osage Hydroelectric Project.

f. Location: The proposed non-project use is located at mile marker 7.5 of the main channel of Lake of the Ozarks, in Camden County, Missouri.

g. Filed Pursuant to: Federal Power Act, 16 U.S.C. 791a-825r.

h. Applicant Contact: Mr. Jeff Green, Shoreline Supervisor, Ameren/UE, P.O. Box 993, Lake Ozark, MO 65049, (573) 365-9214.

i. FERC Contact: Any questions on this notice should be addressed to Jade Alvey at (202) 502-6864.

j. Deadline for filing comments and or motions: May 27, 2009.

All documents (original and eight copies) should be filed with: Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Union Electric Company, dba AmerenUE, filed an application seeking Commission authorization to permit Glacier Park Investments, LLC to modify existing docks and construct new docks near mile marker 7.5 of the main channel of Lake of the Ozarks in Camden County, Missouri. The application is for reconfiguration of 2 existing permitted docks, replacement of 1 un-permitted dock, and construction of 4 new docks for a total of 83 boat slips. Existing land use at the proposed activity site consists of commercial development, including Glacier Park Investments, LLC's Shady Gators restaurant and bar. No dredging is proposed. This application was filed after consultation with the appropriate agencies.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-459) to access the document. You may also register online at http://www.ferc.gov/docs-filing/esubscription.asp to be notified via email of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-10121 Filed 5-1-09; 8:45 am]

BILLING CODE 6717-01-P